DEPARTMENT OF TRANSPORTATION

Federal Railroad Administration

[Docket Number FRA-2006-24647]

Petition for Waiver of Compliance

In accordance with Part 211 of Title 49 Code of Federal Regulations (CFR), this document provides the public notice that by a document dated April 11, 2011, the Hoosier Valley Railroad Museum, Inc. (HVRM) has petitioned the Federal Railroad Administration (FRA) for a waiver of compliance with certain provisions of the Federal railroad safety regulations contained at 49 CFR Part 219. FRA assigned the petition Docket Number FRA-2006-24647.

HVRM requests that its existing waiver dated October 23, 2006, be extended. The existing waiver grants relief from the requirements of Control of Alcohol and Drug Use, 49 CFR Part 219 Subparts D through J, which require a railroad to conduct reasonable suspicion alcohol and/or drug testing, pre-employment drug testing, random alcohol and drug testing, and to have voluntary referral and co-worker report policies, and which also specify drug and alcohol testing procedures and recordkeeping requirements.

In addition, HVRM seeks a modification to the existing waiver's Condition Number 1 to extend their tourist train's operation 0.4 miles west from the LaCrosse wye at Milepost (MP) 223 to MP 223.4 (Wade) to the site of a former C&O cabin; and to extend their tourist train's operation 6.1 miles north from the LaCrosse wye at MP 223 to MP 6.1 (South Thomaston) to a pumpkin patch pasture-picnic area. HVRM tourist trains would occasionally operate the additional 0.4 miles to Wade and the additional 6.1 miles to South Thomaston

HVRM has less than 16 hours of service employees, and presently operates tourist trains on 10 miles of the 33 miles of track owned by the Incorporated Town of North Judson, Indiana between North Judson and LaCrosse, IN. The Chesapeake & Indiana Railroad (CKIN) conducts freight operations on 23 miles of this 33-mile rail line; and presently the only common track use is the wye track in LaCrosse. HVRM's tourist train operations are normally conducted on weekends and would not operate at the same time as CKIN freight trains. The new petition states that the modifications requested above would follow the existing protocols such as good communication between HVRM and CKIN prior to the occasional weekend visits to the sites of Wade at MP 223.4 and/or South Thomaston at MP 6.1. CKIN maintains the involved trackage to Class I track conditions and the operation of trains is under Yard Limit Rules with good visibility conditions. The new petition states that HVRM operates on specific dates and times and communicates with CKIN with its schedules to avoid conflicts.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., Room W12-140, Washington, DC 20590.

• Hand Delivery: 1200 New Jersey Avenue, SE., Room W12-140, Washington, DC 20590, between 9 a.m. and 5 p.m., Monday through Friday, except Federal holidays.

Communications received by August 15, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 23, 2011.
Robert C. Lauby,
Deputy Associate Administrator for Regulatory & Legislative Operations.

[FR Doc. 2011-16410 Filed 6-29-11; 8:45 am]

BILLING CODE 4910-06-P